DEPARTMENT OF THE INTERIOR

National Park Service

National Register of Historic Places; Notification of Pending Nominations

Nominations for the following properties being considered for listing in the National Register were received by the National Park Service before September 23, 2000. Pursuant to § 60.13 of 36 CFR part 60 written comments concerning the significance of these properties under the National Register criteria for evaluation may be forwarded to the National Register, National Park Service, 1849 C St. NW, NC400, Washington, DC 20240. Written comments should be submitted by October 23, 2000.

Carol D. Shull,
Keeper of the National Register.

CALIFORNIA

Ventura County

Pratt, Charles M., House, 1330 Foothill Rd., Ojai, 00001227

FLORIDA

Hillsborough County

Union Depot Hotel, Old, 858 E. Zack St., Tampa, 00001228

LOUISIANA

St. Mary Parish

Alice C Planation House, 10736 LA 182, Franklin, 00001229

NEW MEXICO

Eddy County Last Chance Canyon Apache—Cavalry Battle Site, Address Restricted, Queen, 00001230

NEW YORK

Rensselaer County

Osgood, J.C., Firehouse, 316-324 Third St., Troy, 00001231

NORTH CAROLINA

Edgecombe County

Quigless Clinic, 99 Main St., Tarboro, 00001232

SOUTH CAROLINA

Hampton County

American Legion Hut, Jct. of Hoover St. and Jackson Ave., Hampton, 00001235

Jasper County

White Hall Plantation House Ruins and Oak Avenue, Address Restricted, Ridgeland, 00001233

Spartanburg County

Fremont School, 600 Magnolia St., Spartanburg, 00001234

WISCONSIN

Calumet County

Chilton Post Office, (United States Post Office Construction in Wisconsin MPS) 57 E. Main St., Chilton, 00001249

Clark County

Neillsville Post Office, (United States Post Office Construction in Wisconsin MPS) 619 Hewett St., Neillsville, 00001257

Columbia County

Columbus Post Office, (United States Post Office Construction in Wisconsin MPS) 211 S. Dickason Blvd., Columbus, 00001250

Crawford County

Prairie Du Chien Post Office, (United States Post Office Construction in Wisconsin MPS) 120 S. Beaumont Rd., Prairie du Chien, 00001263

Door County

Sturgeon Bay Post Office, (United States Post Office Construction in Wisconsin MPS) 359 Louisiana Ave., Sturgeon Bay, 00001237

Fond Du Lac County

Waupun Post Office, (United States Post Office Construction in Wisconsin MPS) 400 E. Franklin St., Waupun, 00001262

Grant County

Lancaster Post Office, (United States Post Office Construction in Wisconsin MPS) 236 W. Maple St., Lancaster, 00001245

Green Lake County

Berlin Post Office, (United States Post Office Construction in Wisconsin MPS) 122 S. Pearl St., Berlin, 00001248

Kewaunee County

Kewaunee Post Office, (United States Post Office Construction in Wisconsin MPS) 119 Ellis St., Kewaunee, 00001247

Langlade County

Antigo Post Office, (United States Post Office Construction in Wisconsin MPS) 501 Clermont St., Antigo, 00001255

Lincoln County

Merill Post Office, (United States Post Office Construction in Wisconsin MPS) 430 E. Second St., Merrill, 00001258

Manitowoc County

Two Rivers Post Office, (United States Post Office Construction in Wisconsin MPS) 1516 Eighteenth St., Two Rivers, 00001246

Milwaukee County

South Milwaukee Post Office, (United States Post Office Construction in Wisconsin MPS) 2210 Tenth Ave., South Milwaukee, 00001251

Ozaukee County

O'Brien—Peuschel Farmstead, 12520 N. Wauwatosa Rd., Mequon, 00001236

Price County

Park Falls Post Office, (United States Post Office Construction in Wisconsin MPS) 109 First St. N, Park Falls, 00001238

Rock County

Edgerton Post Office, (United States Post Office Construction in Wisconsin MPS) 104 N. Swift St., Edgerton, 00001239

Sauk County

Reedsburg Post Office, (United States Post Office Construction in Wisconsin MPS) 215 N. Walnut St., Reedsburg, 00001240

Shawano County

Shawano Post Office, (United States Post Office Construction in Wisconsin MPS) 235 S. Main St., Shawano, 00001241

Sheboygan County

Sheboygan Post Office, (United States Post Office Construction in Wisconsin MPS) 522 N. Ninth St., Sheboygan, 00001261

Taylor County

Medford Post Office, (United States Post Office Construction in Wisconsin MPS) 304 S. Main St., Medford, 00001244

Plymouth Post Office, (United States Post Office Construction in Wisconsin MPS) 302 E. Main St., Plymouth, 00001242

Walworth County

Delavan Post Office, (United States Post Office Construction in Wisconsin MPS) 335 E. Walworth Ave., Delavan, 00001260

Elkhorn Post Office, (United States Post Office Construction in Wisconsin MPS) 102 E. Walworth St., Elkhorn, 00001259

Whitewater Post Office, (United States Post Office Construction in Wisconsin MPS) 213 Center St., Whitewater, 00001256

Washington County

West Bend Post Office, (United States Post Office Construction in Wisconsin MPS) 607 Elm St., West Bend, 00001254

WISCONSIN

Waupaca County

Clintonville Post Office, (United States Post Office Construction in Wisconsin MPS) 2 N. Main St., Clintonville, 00001253

Waupaca Post Office, (United States Post Office Construction in Wisconsin MPS) 306 S. Main St., Waupaca, 00001252

Wood County

Marshfield Post Office, (United States Post Office Construction in Wisconsin MPS) 202 S. Chestnut Ave., Marschfield, 00001243

[FR Doc. 00-25779 Filed 10-5-00; 8:45 am]

BILLING CODE 4310-70-P